DEPARTMENT OF COMMERCE

National Oceanic and Atmospheric Administration

50 CFR Chapters II, III, IV, V, and VI

RIN 0648-XD411

Plan for Periodic Review of Regulations

AGENCY: National Marine Fisheries Service (NMFS), National Oceanic and Atmospheric Administration (NOAA), Commerce.

ACTION: Notice of regulatory review; request for comments.

SUMMARY: The Regulatory Flexibility Act (RFA) requires that NMFS periodically review existing regulations that have a significant economic impact on a substantial number of small entities, such as small businesses, small organizations, and small governmental jurisdictions. This plan describes how NMFS will perform this review and describes the regulations that are being proposed for review during the current review cycle.

DATES: Written comments must be received by NMFS by October 8, 2014.

ADDRESSES: You may submit comments on this document, identified by NOAA-NMFS-2014-0106, by any of the following methods:

• Electronic Submission: Submit all electronic public comments via the Federal e-Rulemaking Portal. Go to www.regulations.gov/#!docketDetail;D=NOAA-NMFS-2014-0106, click the “Comment Now!” icon, complete the required fields, and enter or attach your comments.

• Mail: Submit written comments to Chris Wright, National Marine Fisheries Service, NOAA, Office of Sustainable Fisheries, 1315 East-West Highway, Silver Spring, MD 20910 (mark outside of envelope “Comments on 610 Review”).

• Fax: 301-713-1193; Attn: Chris Wright.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

FOR FURTHER INFORMATION CONTACT: Chris Wright, (301) 427-8504.

SUPPLEMENTARY INFORMATION:

Background

The RFA, 5 U.S.C. 601, requires that Federal agencies take into account how their regulations affect “small entities,” including small businesses, small Governmental jurisdictions and small organizations. For regulations proposed after January 1, 1981, the agency must either prepare a Regulatory Flexibility Analysis or certify that the regulation, if promulgated, will not have a significant economic impact on a substantial number of small entities. Section 602 requires that NMFS issue an Agenda of Regulations identifying rules the Agency is developing that are likely to have a significant economic impact on a substantial number of small entities.

Section 610 of the RFA requires Federal agencies to review existing regulations. It requires that NMFS publish a plan in the Federal Register explaining how it will review its existing regulations which have or will have a significant economic impact on a substantial number of small entities. Regulations that become effective after January 1, 1981, must be reviewed within 10 years of the publication date of the final rule. Section 610(c) requires that NMFS annually publish a list of final rules it will review during the succeeding 12 months in the Federal Register. The list must describe, explain the need for, and provide the legal basis for the rule, as well as invite public comment on the rule.

Criteria for Review of Existing Regulations

The purpose of the review is to determine whether existing rules should be left unchanged, or whether they should be revised or rescinded in order to minimize significant economic impacts on a substantial number of small entities, consistent with the objectives of other applicable statutes. In deciding whether change is necessary, the RFA establishes five factors that NMFS must consider:

(1) Whether the rule is still needed;

(2) What type of complaints or comments were received concerning the rule from the public;

(3) The complexity of the rule;

(4) How much the rule overlaps, duplicates or conflicts with other Federal rules, and, to the extent feasible, with State and local governmental rules; and

(5) How long it has been since the rule has been evaluated or how much the technology, economic conditions, or other factors have changed in the area affected by the rule.

Plan for Periodic Review of Rules

NMFS will ensure that all rules for which a Final Regulatory Flexibility Analysis was prepared are reviewed within 10 years of the year in which they were originally issued. By December 31, 2014, NMFS will review the following rules issued during 2007 and 2008:

1. Fisheries of the Northeastern United States; Atlantic Mackerel, Squid, and Butterfish Fisheries; Specifications and Management Measures. RIN 0648-AT65 (72 FR 4211; January 30, 2007). NMFS issued a final rule implementing the 2007 specifications and management measures for Atlantic mackerel, squid, and butterfish, and modified existing management measures. Specifically, it implemented trimester quota allocations for the Loligo squid fishery and established the protocol for an inseason adjustment to increase the mackerel harvest, if landings approach harvest limits. Lastly, the final rule clarified, updated, and corrected existing regulatory language that was misleading or incorrect. The action promoted the utilization and conservation of the resource.

2. Atlantic Highly Migratory Species; Atlantic Commercial Shark Management Measures; Gear Operation and Deployment; Complementary Closures. RIN 0648-AT37 (72 FR 5633; February 7, 2007). NMFS issued a final rule implementing additional handling, release, and disentanglement requirements for sea turtles and other non-target species caught in the commercial shark bottom longline fishery. These requirements increased the amount of handling, release, and disentanglement gear that are required to be on bottom longline vessels and were intended to reduce post hooking mortality of sea turtles and other non-target species consistent with the Highly Migratory Species (HMS) Fishery Management Plan (FMP). This final rule also implemented management measures, consistent with those recommended by the Caribbean Fishery Management Council and implemented by NMFS on October 28, 2005, that prohibit vessels issued HMS permits with bottom longline gear onboard from fishing in six distinct areas off the U.S. Virgin Islands and Puerto Rico, year-round. These six closures were intended to minimize adverse impacts to Essential Fish Habitat (EFH) for reef-dwelling species.

3. South Pacific Tuna Fisheries. RIN 0648-AP61 (72 FR 6144; February 9, 2007). NMFS issued a final rule that revised regulations implementing the South Pacific Tuna Act of 1988, as amended, to reflect the changes agreed to in the Third Extension of the Treaty on Fisheries between the Governments of Certain Pacific Island States and the Government of the United States of America and its annexes, schedules, and implementing agreements, as amended (Treaty). New provisions under the Treaty related to vessel monitoring system (VMS) requirements, vessel reporting requirements, area restrictions for U.S. purse seine vessels fishing under the Treaty, and allowing U.S. longline vessels to fish on the high seas portion of the Treaty Area. These actions were intended to bring the United States into compliance with its obligations under the Treaty.

4. Fisheries in the Western Pacific; Western Pacific Pelagic Fisheries; Hawaii Shallow-set Longline Fishery. RIN 0648-AU99 (72 FR 8289; February 26, 2007). NMFS issued a final rule to permanently remove the 7-day delay in effectiveness when closing the Hawaii based shallow-set longline fishery as a result of reaching interaction limits for sea turtles. This final rule allows for an immediate closure of the fishery to enhance protection for sea turtles.

5. Fisheries of the Northeastern United States; Atlantic Herring Fishery; Amendment 1. RIN 0648-AQ87 (72 FR 11252; March 12, 2007). NMFS issued a final rule implementing approved measures contained in Amendment 1 to the Atlantic Herring FMP, developed by the New England Fishery Management Council. Amendment 1 established a limited access program. Amendment 1 also included the following measures: An open access incidental catch permit; a change in the management area boundaries; establishment of a purse seine/fixed gear-only area; establishment of a maximum sustainable yield proxy; an approach to determining the distribution of area-specific Total Allowable Catches; a multi-year specifications process; a research quota set-aside for herring-related research; a set-aside for fixed gear fisheries; a change in the mid-water trawl gear definition; and additional measures that could be implemented through the framework adjustment process. Also, NMFS informed the public of the approval by the Office of Management and Budget (OMB) of the collection-of information requirements contained in the final rule and published the OMB control numbers for these collections.

6. Fish and Seafood Promotion Act Provisions; Seafood Marketing Councils. RIN 0648-AS09 (72 FR 18105; April 11, 2007). NMFS issued a final rule in response to renewed fishing industry support for marketing and promotion-related activities. The rule enacted regulations implementing the Fish and Seafood Promotion Act of 1986 for the establishment, organization, and operation of Seafood Marketing Councils. Council marketing and promotion plans were to be designed to increase the general demand for fish and fish products by encouraging, expanding, and improving the marketing and utilization of fish and fish products both in domestic or foreign markets, through consumer education, research, and other marketing and promotion activities. The intent of this rule was to increase benefits from domestic fisheries while maintaining consistency with NMFS' stewardship goals and mission statement.

7. Pacific Halibut Fisheries; Guided Sport Charter Vessel Fishery for Halibut. RIN 0648-AV47 (72 FR 30714; June 4, 2007). NMFS issued a final rule to restrict the harvest of halibut by persons fishing on a guided sport charter vessel in International Pacific Halibut Commission Regulatory Area 2C. The current sport fishing catch or bag limit of two halibut per day was changed for a person sport fishing on a charter vessel in Area 2C. The final rule required at least one of the two fish taken in a day to be no more than 32 inches (81.3 cm) in length. This regulatory change was necessary to reduce the halibut harvest in the charter vessel sector while minimizing negative impacts on this sector, its sport fishing clients, and the coastal communities that serve as home ports for the fishery. The intended effect of this action was a reduction in the poundage of halibut harvested by the guided sport charter vessel sector in Area 2C.

8. Atlantic HMS; U.S. Atlantic Swordfish Fishery Management Measures. RIN 0648-AU86 (72 FR 31688, June 7, 2007). NMFS issued a final rule to amend regulations governing the North Atlantic swordfish fishery to provide additional opportunities for U.S. vessels to more fully utilize the U.S. North Atlantic swordfish quota, in recognition of the improved stock status of the species. The U.S. North Atlantic swordfish quota is derived from the recommendations of the International Commission for the Conservation of Atlantic Tunas (ICCAT), and is implemented under the authority of the MSA and the Atlantic Tunas Convention Act. For several years prior to the rule, the United States did not fully harvest its available North Atlantic swordfish quota. This final rule increased swordfish retention limits for Incidental swordfish permit holders, and modified recreational swordfish retention limits for HMS Charter/Headboat and Angling category permit holders. It also modified HMS limited access vessel upgrading restrictions for vessels concurrently issued certain HMS permits. These actions were necessary to address persistent under-harvest of the domestic North Atlantic swordfish quota, while continuing to minimize bycatch to the extent practicable, so that swordfish are harvested in a sustainable, yet economically viable manner.

9. Fisheries of the Exclusive Economic Zone Off Alaska; Groundfish Observer Program. RIN 0648-AU58 (72 FR 32559; June 13, 2007). NMFS issued a final rule to amend regulations implementing the North Pacific Groundfish Observer Program. This action was necessary to avoid expiration of these regulations on December 31, 2007, and ensure uninterrupted observer coverage in North Pacific groundfish fisheries. This action was intended to promote the goals and objectives of the FMP for Groundfish of the Bering Sea and Aleutian Islands Management Area and the FMP for Groundfish of the Gulf of Alaska.

10. Fisheries of the Northeastern United States; Atlantic Sea Scallop Fishery; Amendment 13. RIN 0648-AV39 (72 FR 32549; June 13, 2007). NMFS issued a final rule to implement Amendment 13 to the Atlantic Sea Scallop FMP. Amendment 13 was developed by the New England Fishery Management Council to permanently re-activate the industry funded observer program in the Scallop FMP through a scallop total allowable catch and days-at-sea (DAS) set-a-side program that helps vessel owners defray the cost of carrying observers. The following observer program management measures were implemented by this rule: Requirements for becoming an approved observer service provider; observer certification and decertification criteria; and notification requirements for vessel owners and/or operators. This action also required scallop vessel owners, operators, or vessel managers to procure certified fishery observers for specified scallop fishing trips from an approved observer service provider. Additionally, this action allowed adjustments to the observer program to be done through framework action.

11. Taking of Marine Mammals Incidental to Commercial Fishing Operations; Atlantic Large Whale Take Reduction Plan. RIN 0648-AU90 (72 FR 34632; June 25, 2007). NMFS issued a final rule to revise regulations implementing the Atlantic Large Whale Take Reduction Plan by expanding the Southeast U.S. Restricted Area and modifying regulations pertaining to gillnetting within the Southeast U.S. Restricted Area. NMFS prohibits gillnet fishing or gillnet possession during annual restricted periods associated with the right whale calving season. Limited exemptions to the fishing prohibitions are provided for gillnet fishing for sharks and for Spanish mackerel south of 29°00′ N. lat. An exemption to the possession prohibition is provided for transiting through the area if gear is stowed in accordance with this final rule. This action was required to meet the goals of the Marine Mammal Protection Act and the Endangered Species Act (ESA). This action was necessary to protect northern right whales from serious injury or mortality from entanglement in gillnet gear in their calving area in Atlantic Ocean waters off the Southeast U.S.

12. Fisheries of the Exclusive Economic Zone Off Alaska; Groundfish Observer Program. RIN 0648-AV13 (72 FR 36896; July 6, 2007). NMFS issued a final rule to amend regulations supporting the North Pacific Groundfish Observer Program. This action was necessary to revise requirements for the facilitation of observer data transmission and improve inseason support for observers. This action promoted the goals and objectives of the FMP for Groundfish of the Bering Sea and Aleutian Islands Management Area and the FMP for Groundfish of the Gulf of Alaska.

13. Fisheries of the Exclusive Economic Zone Off Alaska; Allocating Gulf of Alaska Fishery Resources. RIN 0648-AT71 (72 FR 37678; July 11, 2007). NMFS issued this final rule for the Central Gulf of Alaska rockfish fisheries to revise monitoring and enforcement provisions related to catcher/processor vessels harvesting under the opt-out fishery, and to make changes to regulations governing the rockfish fisheries. This action was necessary to clarify procedures and to correct discrepancies in a November 20, 2006, final rule. This final rule was intended to promote the goals and objectives of the FMP for Groundfish of the Gulf of Alaska, the MSA, and other applicable law.

14. Magnuson-Stevens Fishery Conservation and Management Act Provisions; Fisheries of the Northeastern United States; Summer Flounder, Scup, and Black Sea Bass FMP; Amendment 14. RIN 0648-AS22 (72 FR 40077; July 23, 2007). NMFS issued this final rule to implement Amendment 14 to the Summer Flounder, Scup, and Black Sea Bass FMP developed by the Mid-Atlantic Fishery Management Council. The measures of Amendment 14 included a plan to rebuild the scup stock from an overfished condition to the level associated with maximum sustainable yield, as required by the MSA. This action allowed the regulations concerning the Gear Restricted Areas (GRAs) to be modified through framework adjustments to the FMP. The intended effect of this change was to improve the timing of developing and implementing modifications to the GRAs.

15. Magnuson-Stevens Act Provisions; Fisheries of the Northeastern United States; Northeast Fisheries; Regulatory Amendment to Reconcile State and Federal Commercial Fishing Vessel Permit Programs. RIN 0648-AU51 (72 FR 43188; August 3, 2007). NMFS issued this final rule to implement regulations to modify the permitting and vessel replacement provisions for Federal limited access permit programs of the Northeastern United States, excluding American lobster. This action was intended to prevent fishing effort beyond what is accounted for in the FMPs for each fishery and to reinforce efforts undertaken by state fishery management agencies at targeting regulations specifically for vessels that participate wholly in state water fisheries. These measures were necessary to meet the conservation and management requirements of the MSA.

16. Fisheries of the Exclusive Economic Zone Off Alaska; Individual Fishing Quota Program; Community Development Quota Program. RIN 0648-AS84 (72 FR 44795; August 9, 2007). NMFS issued this final rule to implement modifications to the Individual Fishing Quota (IFQ) Program for the fixed-gear commercial Pacific halibut fishery and sablefish fishery by revising regulations specific to those fisheries. This action was intended to improve the effectiveness of the Halibut and Sablefish IFQ Program and was necessary to promote the objectives of the MSA and the Northern Pacific Halibut Act of 1982 with respect to the IFQ fisheries.

17. Antarctic Marine Living Resources (AMLR); Centralized Vessel Monitoring System; Preapproval of Fresh Toothfish Imports; Customs Entry Number; Electronic Catch Documentation Scheme; Scientific Observers; Definitions; Seal Excluder Device; Information on Harvesting Vessels. RIN 0648-AS75 (72 FR 48496; August 23, 2007). NMFS issued this final rule implementing measures adopted by the Commission for the Conservation of Antarctic Marine Living Resources (CCAMLR) to facilitate conservation and management of AMLR. This final rule required the use of the Centralized satellite-linked VMS by all U.S. vessels harvesting AMLR and made use of VMS by the harvesting vessel a condition of import for all U.S. dealers seeking to import shipments of toothfish (Dissostichus) into the United States. This final rule also exempted all shipments of fresh toothfish from the NMFS preapproval process and allowed importers of frozen toothfish to submit the U.S. Customs 7501 entry number subsequent to their initial application for preapproval. This final rule required the use of Electronic Catch Documents for all U.S. dealers seeking to import shipments of toothfish into the United States. Paper-based catch documents for toothfish will no longer be accepted. This final rule also required the use of a seal excluder device on krill vessels using trawl gear in the Area of the Convention for the Conservation of Antarctic Marine Living Resources. This final rule added or amended definitions of “Antarctic marine living resources”, “export,” “import,” “international observer,” “land or landing,” “mobile transceiver unit,” “national observer,” “Office for Law Enforcement,” “Port State,” “re-export,” “seal excluder device,” “transship or transshipment,” and “vessel monitoring system.” This final rule also expanded the list of requirements and prohibitions regarding scientific observers and clarified the duties and responsibilities of the observers on the vessels and of the vessel owners hosting the observers. This final rule identified new information on all vessels licensed by CCAMLR Members to harvest AMLR in the area identified in the Convention on the Conservation of Antarctic Marine Living Resources (Convention). The intent of this rule was to incorporate new conservation measures, to revise procedures to facilitate enforcement, and to fulfill U.S. obligations in CCAMLR.

18. Fisheries of the Exclusive Economic Zone Off Alaska; Pacific Cod Allocations in the Bering Sea and Aleutian Islands Management Area. RIN 0648-AU48 (72 FR 50788; September 4, 2007). NMFS issued a final rule to implement Amendment 85 to the FMP for Groundfish of the Bering Sea and Aleutian Islands Management Area as partially approved by NMFS, and to implement recent changes to the MSA. This final rule modified the current allocations of Bering Sea and Aleutian Islands management area (BSAI) Pacific cod total allowable catch among various harvest sectors and seasonal apportionments thereof, established a hierarchy for reallocating projected unharvested amounts of Pacific cod from certain sectors to other sectors, revised catcher/processor (CP) sector definitions, modified the management of Pacific cod incidental catch that occurs in other groundfish fisheries, eliminated the Pacific cod non-specified reserve, subdivided the annual prohibited species catch (PSC) limits currently apportioned to the Pacific cod hook-and-line gear fisheries between the catcher vessel and CP sectors, and modified the sideboard restrictions for American Fisheries Act CP vessels. In addition, this final rule increased the percentage of the BSAI Pacific cod total allowable catch apportioned to the Community Development Quota Program. The proposed rule for Amendment 85 included regulations that would have subdivided the annual PSC limits currently apportioned to the Pacific cod trawl fisheries among trawl sectors. However, NMFS disapproved these regulations. Therefore, this final rule did not subdivide the annual PSC limits for Pacific cod trawl fisheries among trawl sectors. This final rule was necessary to implement Amendment 85 and reduce uncertainty about the availability of yearly harvests within sectors caused by reallocations and maintain stability among sectors in the BSAI Pacific cod fishery. This final rule also was necessary to partially implement recent changes to the MSA that require a total allocation of 10.7 percent of the total allowable catch of each directed fishery to the Community Development Quota Program starting January 1, 2008. This final rule was intended to promote the goals and objectives of the MSA, the FMP, and other applicable laws.

19. Pacific Coast Groundfish Fishery. RIN 0648-AV46 (72 FR 50906; September 5, 2007). NMFS issued a final rule to establish catch accounting requirements for persons who receive, buy, or accept Pacific whiting deliveries of 4,000 pounds (lb.)(1.18 mt) or more from vessels using mid-water trawl gear during the Pacific whiting primary season for the shore-based sector. This action was intended to improve NMFS's ability to effectively monitor the Pacific whiting shoreside fishery such that catch of Pacific whiting and incidentally caught species, including overfished groundfish species, did not result in a species' optimum yield, harvest guideline, allocations, or bycatch limits being exceeded. This action was also intended to provide for timely reporting of Chinook salmon take as specified in the ESA Section 7 Biological Opinion for Chinook salmon catch in the Pacific groundfish fishery. This action was consistent with the conservation goals and objectives of the Pacific Coast Groundfish FMP.

20. Magnuson-Stevens Fishery Conservation and Management Act Provisions; Fisheries of the Northeastern United States; Atlantic Surfclam and Ocean Quahog Fishery; Framework Adjustment 1. RIN 0648-AT62 (72 FR 51699; September 11, 2007). This final rule implemented Framework Adjustment 1 (FW 1) to the Atlantic Surfclam and Ocean Quahog FMP. FW 1 management measures were developed by the Mid-Atlantic Fishery Management Council and implemented a VMS requirement for vessels participating in the surfclam and ocean quahog fisheries. The VMS requirement replaced a telephone-based notification requirement necessary prior to departure on a surfclam or ocean quahog fishing trip and facilitated monitoring of closed areas and state/Federal jurisdictional boundaries. The intent of this action was to implement management measures that will improve the management and enforcement of regulations governing the Atlantic surfclam and ocean quahog fishery in the U.S. Exclusive Economic Zone.

21. Fisheries of the Exclusive Economic Zone Off Alaska; Allocating Bering Sea/Aleutian Islands Fishery Resources; American Fisheries Act Sideboards. RIN 0648-AU68 (72 FR 52668; September 14, 2007). NMFS issued a final rule to implement Amendment 80 to the FMP for Groundfish of the Bering Sea and Aleutian Islands Management Area. Amendment 80 (hereinafter the “Program”) primarily allocated several BSAI non-pollock trawl groundfish fisheries among fishing sectors, and facilitated the formation of harvesting cooperatives in the non-American Fisheries Act trawl catcher/processor sector. The Program established a limited access privilege program for the non-American Fisheries Act trawl catcher/processor sector. This action was necessary to increase resource conservation and improve economic efficiency for harvesters who participate in the BSAI groundfish fisheries. This action was intended to promote the goals and objectives of the MSA, the FMP, and other applicable law.

22. Magnuson-Stevens Fishery Conservation and Management Act Provisions; Fisheries of the Northeastern United States; Monkfish Fishery; Framework Adjustment 4. RIN 0648-AU34 (72 FR 53942; September 21, 2007). NMFS implemented management measures for the monkfish fishery approved in Framework Adjustment 4 to the Monkfish FMP. This framework eliminated the control rule for determining management measures established by Framework Adjustment 2 to the FMP, and established target total allowable catch levels, trip limits, and days-at-sea allocations for the final 3 years of the monkfish rebuilding plan. The intent of this action was to replace the Framework 2 control rule with measures consistent with the stock rebuilding goals established in the original FMP, and in accordance with MSA requirements. NMFS published this action as an interim final rule in order to provide the opportunity for additional public comment because the approval of Framework 4 was based, in part, on the consideration of the integrated monkfish stock assessment, which was not available during the original public comment period. This action also contained three changes to address incorrect cross-references or duplicate regulatory text.

23. Fishing Capacity Reduction Program for the Longline Catcher Processor Subsector of the Bering Sea and Aleutian Islands Non-pollock Groundfish Fishery, Industry Fee System. RIN 0648-AV66 (72 FR 54219; September 24, 2007). NMFS established regulations to implement an industry fee system for repaying a $35 million Federal loan financing a fishing capacity reduction program in the longline catcher processor subsector of the Bering Sea and Aleutian Islands non-pollock groundfish fishery. This action implemented the fee collection system to ensure repayment of the loan.

24. Atlantic Coastal Fisheries Cooperative Management Act Provisions; American Lobster Fishery. RIN 0648-AU07 (72 FR 56935; October 5, 2007). NMFS amended the Federal American lobster (Homarus americanus) regulations to implement further minimum carapace length (gauge) increases, an escape vent size increase, and trap reductions in the offshore American lobster fishery, consistent with recommendations for Federal action made by the Atlantic States Marine Fisheries Commission and in support of the Commission's Interstate FMP for American Lobster.

25. Atlantic Highly Migratory Species; Atlantic Swordfish Quotas. RIN 0648-AV10 (72 FR 56929; October 5, 2007). This final rule amended the regulations governing the North and South Atlantic swordfish fisheries to implement two recommendations by the International Commission for the Conservation of Atlantic Tuna (Recommendations 06-02 and 06-03). These recommendations established baseline quotas for North and South Atlantic swordfish, respectively, and set caps on underharvest carryover. Additionally, recommendation 06-02 allows a contracting party (CPC) with a total allowable catch allocation to make a transfer within a fishing year of up to 15 percent of its baseline allocation to other CPCs with total allowable catch allocations, as long as the transfer is conducted in a manner that is consistent with domestic obligations and conservation considerations. This final rule transferred 15 percent of the North Atlantic swordfish baseline quota into the reserve category, which allows it to be transferred to other CPCs with total allowable catch allocations. In addition, this final rule modified the North and South Atlantic swordfish quotas for the 2006 fishing year to account for updated landings information from the 2004 and 2005 fishing years. Finally, this final rule included the option of an Internet Web site as an additional method for complying with the Atlantic HMS Angling or Atlantic HMS Charter/Headboat category's 24-hour reporting requirement. Reporting was done by telephone only. This rule will remain in effect until ICCAT provides new recommendations for the U.S. swordfish fisheries.

26. Fisheries in the Western Pacific; Precious Corals Fisheries. RIN 0648-AT93 (72 FR 58259; October 15, 2007). Black coral resources in the Au'au Channel, Hawaii, have declined, possibly due to fishing pressure and an alien invasive soft coral. Fishing regulations required minimum sizes for the harvest of living black coral colonies of 48 inches (122 cm) in height or one inch (2.54 cm) in stem diameter. Regulations also exempted certain fishermen from the minimum stem diameter requirement, allowing the harvest of black coral with a smaller ¾ inch (1.91 cm) stem diameter by anyone who had reported black coral harvests to the State of Hawaii within the five years prior to April 17, 2002. This final rule removed that exemption to reduce the impacts of fishing on Au'Au Channel black coral resources.

27. Fisheries of the Exclusive Economic Zone Off Alaska; Prohibited Species Bycatch Management. RIN 0648-AU03 (72 FR 61070; October 29, 2007). NMFS amended regulations governing salmon bycatch in the Bering Sea and Aleutian Islands management area. This action was necessary to enhance the effectiveness of salmon bycatch measures by exempting pollock vessels from Chinook and Chum Salmon Savings Area closures if they participate in an intercooperative agreement (ICA) to reduce salmon bycatch, and exempting vessels participating in non-pollock trawl fisheries from Chum Salmon Savings Area closures because these fisheries intercept minimal amounts of salmon. This action was intended to promote the goals and objectives of the FMP for Groundfish of the Bering Sea and Aleutian Islands Management Area.

28. Fisheries of the Exclusive Economic Zone Off Alaska; Groundfish, Crab, Salmon, and Scallop Fisheries of the Bering Sea and Aleutian Islands Management Area and Gulf of Alaska, Essential Fish Habitat Rule Correction. RIN 0648-AU93 (72 FR 63500; November 9, 2007). NMFS issued a final rule to correct regulations implementing EFH provisions for Alaska fisheries. This final rule clarified that portions of EFH management areas in the vicinity of the Aleutian Islands are located in State of Alaska waters. This rule also applied EFH VMS and closure requirements to federally permitted vessels operating in State waters adjacent to the Gulf of Alaska and Aleutian Islands subarea. This action was necessary to ensure that federally permitted vessels operating in State waters comply with EFH protection measures.

29. Fisheries off West Coast States; Pacific Coast Groundfish Fishery; Vessel Monitoring System; Open Access Fishery. RIN 0648-AU08 (72 FR 69162; December 7, 2007). NMFS issued this final rule to require all vessels fishing pursuant to the harvest guidelines, quotas, and other management measures governing the open access groundfish fishery, and all trawl vessels to provide declaration reports and to activate and use a VMS transceiver while fishing off the coasts of Washington, Oregon and California. NMFS implemented a series of large-scale geographically-defined closed areas intended to: minimize the bycatch of overfished groundfish species, minimize the bycatch of protected salmon species, and protect EFH from harm through contact with fishing gear. This action was intended to improve the monitoring of compliance with those closed areas through regular VMS transmissions of vessel locations for those vessels subject to groundfish closed area restrictions.

30. Fisheries of the Exclusive Economic Zone Off Alaska; Groundfish and Halibut Fisheries of the Bering Sea and Aleutian Islands Management Area and Gulf of Alaska, Seabird Avoidance Measures Revisions. RIN 0648-AV38 (72 FR 71601; December 18, 2007). NMFS issued a final rule that revised the seabird avoidance measures for the Alaska hook-and-line groundfish and halibut fisheries. The final rule strengthened gear standards for small vessels and eliminates certain seabird avoidance requirements that are not needed. This action was necessary to revise seabird avoidance measures based on the latest scientific information and to reduce unnecessary regulatory burdens and associated costs.

31. Fisheries of the Northeastern United States; Atlantic Sea Scallop Fishery; Framework Adjustment 20. RIN 0648-AV91 (72 FR 72626; December 21, 2007). NMFS issued this final rule to approve and implement measures contained in Framework Adjustment 20 (Framework 20) to the Atlantic Sea Scallop FMP. This action maintained the trip allocations and possession limits established by the interim measures that were enacted by NMFS on June 21, 2007, for the Elephant Trunk Access Area (ETAA) in 2007 to reduce the potential for overfishing the Atlantic sea scallop (scallop) resource and excessive scallop mortality. This action reduced the number of scallop trips to the ETAA, and prohibited the retention of more than 50 U.S. bushels (17.62 hL) of in-shell scallop outside of the boundaries of the ETAA (deckloading). The action also clarified that the current restriction on landing no more than one scallop trip per calendar day for vessels fishing under general category rules does not prohibit a vessel from leaving on a scallop trip on the same calendar day that the vessel landed scallops.

32. Fisheries of the Caribbean, Gulf of Mexico, and South Atlantic; Revision of VMS Requirements for Commercial Gulf Reef Fish Vessels. RIN 0648-AV59 (72 FR 73270; December 27, 2007). NMFS issued this final rule to revise VMS requirements applicable to the commercial reef fish fishery in the Gulf of Mexico and to revise the allowable methods for complying with the advance notification of landing requirement in the Gulf red snapper IFQ program. Regarding the VMS program, this final rule allowed commercial reef fish vessel owners or operators to reduce the frequency of VMS transmissions while in port; extended the existing power down exemption to include reef fish vessels while in port; and added a grandfather clause to address VMS units approved for use in the Gulf reef fish fishery. Regarding the IFQ program, this final rule expanded the allowable methods for communicating the required advance notification of landing. The intended effects of this final rule were to resolve an unanticipated technological problem with the VMS draining power from vessels that were in port without access to external power sources; provided a grandfather clause for previously approved Gulf reef fish VMS units; and facilitated compliance with the advance notification of landing requirement in the IFQ program. Finally, NMFS informed the public of the approval by the OMB of the collection-of information requirements contained in this final rule and published the OMB control numbers for those collections.

33. Fisheries of the Caribbean, Gulf of Mexico, and South Atlantic; Gulf of Mexico Vermilion Snapper Fishery Management Measures. RIN 0648-AV45 (73 FR 406; January 3, 2008). NMFS issued this final rule to implement a regulatory amendment to the FMP for the Reef Fish Resources of the Gulf of Mexico prepared by the Gulf of Mexico Fishery Management Council. This final rule reduced the minimum size limit for vermilion snapper to 10 inches (25.4 cm) total length, eliminated the 10-fish recreational bag limit for vermilion snapper within the existing 20-fish aggregate reef fish bag limit, and eliminated the 40-day commercial closed season for vermilion snapper (from April 22 through May 31 each year). NMFS also implemented through this rule clarifications for the Gulf of Mexico red snapper IFQ program, as well as non-substantive changes to codified text, including removing obsolete language regarding the use of fish traps in the Gulf of Mexico, removing outdated and redundant language, revising phone numbers and an outdated definition, and revising incorrect references. The intended effects of this final rule were to help achieve optimum yield by reducing vermilion snapper harvest limitations consistent with the findings of the recent stock assessment and to clarify and update existing regulations.

34. Fisheries of the Caribbean, Gulf of Mexico, and South Atlantic; Reef Fish Fishery and Shrimp Fishery of the Gulf of Mexico; Amendment 27/14. RIN 0648-AT87 (73 FR 5117; January 29, 2008). NMFS issued this final rule to implement joint Amendment 27 to the FMP for the Reef Fish Resources of the Gulf of Mexico and Amendment 14 to the FMP for the Shrimp Fishery of the Gulf of Mexico (Amendment 27/14) prepared by the Gulf of Mexico Fishery Management Council. This final rule reduced the commercial and recreational quotas for red snapper; reduced the commercial minimum size limit for red snapper, reduced the recreational bag limit for red snapper; prohibited the retention of red snapper under the bag limit for the captain and crew of a vessel operating as a charter vessel or headboat; established a red snapper recreational season that is open from June 1 through September 30 each year; required the use of non-stainless steel circle hooks when using natural baits to fish for Gulf reef fish; required the use of venting tools and de-hooking devices when participating in the commercial or recreational reef fish fisheries, and, consistent with the Amendment's framework procedure, provided for implementing seasonal closures of the Gulf shrimp fishery to reduce red snapper bycatch based upon the 74 percent bycatch reduction target established in this final rule. In addition, this final rule established a framework procedure to adjust the target effort level and any necessary closures for the Gulf shrimp fishery. The measures contained in this final rule are intended to establish a revised red snapper rebuilding plan and to end overfishing of the red snapper resource in the Gulf of Mexico.

35. Fisheries of the Caribbean, Gulf of Mexico, and South Atlantic; Coastal Migratory Pelagic Resources of the Gulf of Mexico and South Atlantic; Atlantic Group Spanish Mackerel Commercial Trip Limit in the Southern Zone; Change in Start Date. RIN 0648-AV17 (73 FR 7676; February 11, 2008). In accordance with the framework procedure for adjusting management measures of the FMP for the Coastal Migratory Pelagic Resources of the Gulf of Mexico and South Atlantic, NMFS changed the start date of the commercial trip limit for Atlantic migratory group Spanish mackerel in the southern zone to March 1. The intended effect of this final rule was to conform the trip limit to the beginning of the fishing year for Atlantic migratory group Spanish mackerel.

36. Fisheries of the Caribbean, Gulf of Mexico, and South Atlantic; Shrimp Fisheries of the Gulf of Mexico; Revisions to Bycatch Reduction Devices and Testing Protocols. RIN 0648-AU59 (73 FR 8219; February 13, 2008). In accordance with the framework procedures for adjusting management measures specified in regulations implementing the FMP for the Shrimp Fishery of the Gulf of Mexico and the FMP for the Shrimp Fishery of the South Atlantic Region, NMFS issued this final rule to consolidate and make modifications to the Bycatch Reduction Device Testing Manuals (Manual) for the Gulf of Mexico and the South Atlantic regions. This final rule also revised the bycatch reduction device (BRD) certification criterion for the western Gulf of Mexico and certified additional BRDs. The intended effect of this final rule was to improve bycatch reduction in the shrimp fisheries and better meet the requirements of national standard 9.

37. Fisheries of the Exclusive Economic Zone Off Alaska; Individual Fishing Quota Program. RIN 0648-AU85 (73 FR 8822; February 15, 2008). NMFS issued a final rule to modify the IFQ Program for the fixed-gear commercial Pacific halibut fishery and sablefish fishery by revising regulations governing the use of commercial halibut quota share (QS) and the processing of non-IFQ species when processed halibut is onboard a vessel. This action amended current regulations to allow persons holding category A halibut QS to process IFQ regardless of whether a QS holder with unused category B, C, or D halibut QS is onboard the vessel. This action also allowed catcher/processor vessels to process non-IFQ species regardless of whether any processed IFQ species is onboard the vessel. This action was necessary to improve the efficiency of fishermen fishing on catcher/processor vessels. The action was intended to allow halibut QS holders greater flexibility in using their QS, allow use of crew who hold unused category B, C, or D halibut QS while onboard a category A halibut QS vessel, and increase the product quality of non-IFQ species harvested incidentally to IFQ halibut.

38. Fisheries of the Exclusive Economic Zone Off Alaska; Groundfish, Crab, Scallop, and Salmon Fisheries of the Bering Sea and Aleutian Islands Management Area. RIN 0648-AV62 (73 FR 9035; February 19, 2008). NMFS issued a final rule that implements Amendment 88 to the FMP for Groundfish of the Bering Sea and Aleutian Islands Management Area. This amendment revised the Aleutian Islands Habitat Conservation Area (AIHCA) boundary to allow non-pelagic trawling in an area historically fished and to prohibit non-pelagic trawling in an area of known coral and sponge occurrence. This action was necessary to ensure the AIHCA protects areas of coral and sponge habitat from the potential effects of non-pelagic trawling and allows non-pelagic trawling in areas historically fished and with unknown occurrence of corals and sponges.

39. Fisheries of the Exclusive Economic Zone Off Alaska; Prohibited Species Bycatch Management. RIN 0648-AV96 (73 FR 12898; March 11, 2008). NMFS issued a final rule to repeal regulations providing for a groundfish vessel incentive program (VIP) that was designed to reduce the rate at which Pacific halibut and red king crab are taken as incidental catch in Alaska groundfish trawl fisheries. The VIP had not performed as intended because of the costs associated with implementation and enforcement, the relatively small number of vessels covered by the regulation, and the implementation of more effective bycatch reduction programs. This action was necessary to reduce a regulatory burden on the industry and to reduce the administrative costs necessary to support a program no longer considered an effective means to reduce bycatch rates.

40. Fisheries in the Western Pacific; Bottomfish and Seamount Groundfish Fisheries; Management Measures in the Main Hawaiian Islands. RIN 0648-AU22 (73 FR 18450; April 4, 2008). This final rule implemented management measures for the vessel-based bottomfish fishery in the Main Hawaiian Islands, including requirements for non-commercial (recreational and subsistence) permits and data reporting, a closed season, annual total allowable catch limits, and non-commercial bag limits. This action was intended to end the overfishing of bottomfish in the Hawaiian Archipelago.

41. Endangered and Threatened Wildlife; Sea Turtle Conservation. RIN 0648-AV84 (73 FR 18984; April 8, 2008). NMFS issued this final rule to clarify the existing sea turtle conservation requirements for sea scallop dredge vessels entering waters south of 41°9.0′ N. latitude from May 1 through November 30 each year and to add a transiting provision to the requirements. Any vessel with a sea scallop dredge and required to have a Federal Atlantic sea scallop fishery permit, regardless of dredge size or vessel permit category, that enters waters south of 41°9.0′ N. latitude, from the shoreline to the outer boundary of the Exclusive Economic Zone (EEZ) must have a chain mat on each dredge, unless the terms of the transiting provision are met. The chain-mat modified dredge was necessary to help reduce mortality and injury to endangered and threatened sea turtles in scallop dredge gear and to conserve sea turtles listed under the ESA. This action addressed a procedural error in the original rulemaking to require chain mats on scallop dredge gear, clarified the existing requirements, and added a transiting provision to the regulations. Any incidental take of threatened sea turtles in sea scallop dredge gear in compliance with this gear modification requirement and all other applicable requirements were be exempted from the ESA's take prohibition.

42. Fisheries of the Northeastern United States; Atlantic Sea Scallop Fishery; Amendment 11. RIN 0648-AU32 (73 FR 20090; April 14, 2008). NMFS implemented the approved measures contained in Amendment 11 to the Atlantic Sea Scallop FMP, developed by the New England Fishery Management Council. Amendment 11 was developed by the Council to control the capacity of the open access general category fleet. Amendment 11 established a new management program for the general category scallop fishery, including a limited access program with IFQs for qualified general category vessels, a specific allocation for general category fisheries, and other measures to improve management of the general category scallop fishery.

43. Magnuson-Stevens Fishery Conservation and Management Act Provisions; Fisheries of the Northeastern United States; Monkfish Fishery; Framework Adjustment 5 to the Monkfish FMP. RIN 0648-AW33 (73 FR 22831; April 28, 2008). NMFS approved and implemented new management measures for the monkfish fishery recommended in Framework Adjustment 5 to the Monkfish FMP, which were submitted jointly by the New England and Mid-Atlantic Fishery Management Councils. This action approved and implemented revised biological reference points in the FMP to be consistent with the recommendations resulting from the most recent stock assessment for this fishery (Northeast Data Poor Stocks Working Group (DPWG, July 2007)), and approved and implemented revised management measures to ensure that the monkfish management program succeeded in keeping landings within the target total allowable catch levels.

44. Fisheries of the Exclusive Economic Zone Off Alaska; Individual Fishing Quota Program; Community Development Quota Program. RIN 0648-AV64 (73 FR 28733; May 19, 2008). NMFS issued a final rule to modify the IFQ Program and the Community Development Quota Program for the fixed-gear commercial Pacific halibut and sablefish fisheries. This action amended current regulations to allow the use of longline pot fishing gear in the Bering Sea sablefish IFQ and sablefish Community Development Quota fisheries in the month of June. This action also added regulatory provisions to allow members of the National Guard and military reserves who are mobilized to active duty to temporarily transfer their annual halibut and sablefish IFQ to other eligible IFQ recipients. This final rule was necessary to increase the efficiency of fishermen operating longline pot vessels in the Bering Sea sablefish fishery and to allow guardsmen and reservists to accrue some economic benefit from their annual IFQ if unable to harvest it due to military service. This action was intended to promote the conservation and management provisions in the FMP for Groundfish of the Bering Sea and Aleutian Islands Management Area and the Northern Pacific Halibut Act of 1982.

45. Fisheries of the Northeastern United States; Atlantic Sea Scallop Fishery; Framework Adjustment 19. RIN 0648-AV90 (73 FR 30790; May 29, 2008). NMFS implemented measures included in Framework Adjustment 19 (Framework 19) to the Atlantic Sea Scallop FMP, which was developed by the New England Fishery Management Council. Framework 19 was developed to achieve the following management measures for the scallop fishery: Limited access scallop fishery specifications for 2008 and 2009 (open area days-at-sea and Sea Scallop Access Area (access area) trip allocations); ETAA and Delmarva Access Area (Delmarva) in-season trip adjustment procedures; new Hudson Canyon Access Area measures; DAS allocation adjustment measures if an access area yellowtail flounder (yellowtail) total allowable catch is caught; adjustments to the scallop overfishing definition; a prohibition on deckloading of scallops on access area trips; adjustments to the industry funded observer program; a 30-day VMS power down provision; general category access area specifications for 2008 and 2009; and general category measures dependent on the implementation of Amendment 11 to the FMP, including a quarterly total allowable catch, 2008 and 2009 general category quota allocations, and IFQ permit cost recovery program requirements. NMFS disapproved the Council's recommendation to eliminate the September 1 through October 31 ETAA seasonal closure, which was implemented under Framework 18 to the FMP to reduce sea turtle interactions with the scallop fishery. NMFS determined that the Council's recommendation would not be consistent with National Standards 2 and 9 of the MSA.

46. International Fisheries; Atlantic Highly Migratory Species; International Trade Permit Program; Bluefin Tuna Catch Documentation Program. RIN 0648-AU88 (73 FR 31380; June 2, 2008). NMFS modified permitting and reporting requirements for the HMS International Trade Permit (ITP) program to improve program efficacy and enforceability, and implement the International Commission for the Conservation of Atlantic Tunas bluefin tuna catch documentation program. The modified regulations also implemented the new definition of “import” contained in the MSA, and required that shark fin importers, exporters, and re-exporters obtain the HMS ITP to assist NMFS in monitoring trade of shark fins. This action was necessary to implement recommendations of ICCAT, as required by the Atlantic Tunas Convention Act, and to achieve domestic management objectives under the MSA.

47. Fisheries of the Northeastern United States; Northeast Multispecies Fishery; Scallop Dredge Exemption Areas; Addition of Monkfish Incidental Catch Trip Limits. RIN 0648-AW31 (73 FR 33922; June 16, 2008). This action modified the regulations implementing the Northeast Multispecies FMP to create three NE Multispecies Scallop Exemptions that were identical to the current scallop exemptions, except for the addition of an incidental monkfish catch limit. These new scallop exemptions were restricted to vessels issued either a General Category Atlantic sea scallop permit or a limited access Atlantic sea scallop permit (when not fishing under a scallop DAS limitation), when fishing for scallops with small dredge gear (combined width not to exceed 10.5 ft (3.2 m)). Vessels that land an incidental catch of monkfish within these new scallop exemptions are required to possess, and have onboard, a valid limited access monkfish permit, or an open access monkfish Incidental Catch permit. The intent of this action was to allow small scallop dredge vessels to land monkfish that are currently being discarded, consistent with the bycatch reduction objectives of the FMP and National Standard 9 of the MSA.

48. Fisheries of the Exclusive Economic Zone Off Alaska; Bering Sea and Aleutian Islands Crab Rationalization Program. 0648-AW45 (73 FR 35084; June 20, 2008). NMFS issued regulations implementing Amendment 26 to the FMP for Bering Sea/Aleutian Islands King and Tanner Crabs. These regulations amended the Crab Rationalization Program. Amendment 26 amended the FMP to exempt permanently quota share issued to crew members, and the annual harvest privileges derived from that quota share, from requirements for delivery to specific processors, delivery within specific geographic regions, and participation in an arbitration system to resolve price disputes. This action was intended to promote the goals and objectives of the MSA, the FMP, and other applicable law.

49. Atlantic Highly Migratory Species; Atlantic Shark Management Measures. 0648-AU89 (73 FR 35778; June 24, 2008). This final rule implemented the management measures described in Final Amendment 2 to the Atlantic HMS FMP. These management measures were designed to rebuild overfished species and prevent overfishing of Atlantic sharks. These measures include, but are not limited to, reductions in the commercial quotas, adjustments to commercial retention limits, establishment of a shark research fishery, a requirement for commercial vessels to maintain all fins on the shark carcasses through offloading, the establishment of two regional quotas for non-sandbar large coastal sharks, the establishment of one annual season for commercial shark fishing instead of trimesters, changes in reporting requirements for dealers (including swordfish and tuna dealers), the establishment of additional time/area closures for bottom longline fisheries, and changes to the authorized species for recreational fisheries. This rule also established the 2008 commercial quota for all Atlantic shark species groups. These changes affected all commercial and recreational shark fishermen and shark dealers on the Atlantic Coast.

50. Fisheries of the Northeastern United States; Atlantic Mackerel, Squid, and Butterfish Fisheries; Amendment 9. 0648-AP60 (73 FR 37382; July 1, 2008). NMFS implemented approved measures contained in Amendment 9 to the Atlantic Mackerel, Squid, and Butterfish FMP. Amendment 9 was developed by the Mid-Atlantic Fishery Management Council to remedy deficiencies in the FMP and to address other issues that have arisen since Amendment 8 to the FMP became effective in 1999. Amendment 9 established multi-year specifications for all four species managed under the FMP (mackerel, butterfish, Illex squid (Illex), and Loligo squid (Loligo)) for up to 3 years; extended the moratorium on entry into the Illex fishery, without a sunset provision; adopted biological reference points recommended by the Stock Assessment Review Committee for Loligo; and designated EFH for Loligo eggs based on best available scientific information; and prohibits bottom trawling by permitted vessels in Lydonia and Oceanographer Canyons.

51. Fisheries of the Caribbean, Gulf of Mexico, and South Atlantic; Reef Fish Fishery of the Gulf of Mexico; Amendment 30A. 0648-AV34 (73 FR 38139; July 3, 2008). NMFS issued this final rule to implement Amendment 30A to the FMP for the Reef Fish Resources of the Gulf of Mexico prepared by the Gulf of Mexico Fishery Management Council. This final rule established accountability measures for the commercial and recreational fisheries for greater amberjack and gray triggerfish, established commercial quotas for greater amberjack and gray triggerfish, established a recreational quota for greater amberjack and recreational catch limits for gray triggerfish, increased the commercial and recreational minimum size limit for gray triggerfish, increased the recreational minimum size limit for greater amberjack, and reduced the greater amberjack bag limit to zero for captain and crew of a vessel operating as a charter vessel or headboat. In addition, Amendment 30A established management targets and thresholds for gray triggerfish consistent with the requirements of the Sustainable Fisheries Act. This final rule was intended to end overfishing of greater amberjack and gray triggerfish and to rebuild these stocks to sustainable levels.

52. Atlantic Highly Migratory Species; Renewal of Atlantic Tunas Longline Limited Access Permits; Atlantic Shark Dealer Workshop Attendance Requirements. 0648-AW46 (73 FR 38144; July 3, 2008). This final rule amended the regulations governing the renewal of Atlantic tunas longline limited access permits (LAPs), and amended the workshop attendance requirements for businesses issued Atlantic shark dealer permits. Specifically, the regulatory changes allowed for the renewal of Atlantic tunas longline LAPs that have been expired for more than one year by the most recent permit holder of record, provided that the applicant has been issued a swordfish LAP (other than a handgear LAP) and a shark LAP, and all other requirements for permit renewal are met. Also, this rule amended the Atlantic Shark Identification Workshop requirements by: specifying that a workshop certificate be submitted upon permit renewal, and later possessed and available for inspection, for each place of business listed on the dealer permit which first receives Atlantic sharks by way of purchase, barter, or trade (rather than for each location listed on their dealer permit); and required that extensions of a dealer's business, such as trucks or other conveyances, must possess a copy of a valid dealer or proxy certificate issued to a place of business listed on the dealer permit.

53. Fisheries of the Northeastern United States; Northeast Multispecies Fishery; Allowance of New Gear (Haddock Rope Trawl, Previously Referred to as the Eliminator Trawl) in Specific Special Management Programs. 0648-AW53 (73 FR 40186; July 14, 2008). NMFS approved the use of an additional type of trawl gear known as the “haddock rope trawl” (formerly called the “eliminator trawl”) in the Regular B Days-at-Sea Program and the Eastern U.S./Canada Haddock Special Access Program (SAP). Vessels fishing in the Regular B DAS Program or the Eastern U.S./Canada Haddock SAP must use approved trawl gear in order to reduce the catch of Northeast multispecies (groundfish) stocks of concern. The NE Regional Administrator, NMFS, may approve additional gears for use in these programs if research demonstrates that the gear meets specific standards for the reduction of catch of stocks of concern. The intent of this action was to reduce catch of stocks of concern in the NE multispecies fishery and to provide for the conservation and management of stocks managed by the NE Multispecies FMP.

54. Fisheries of the Exclusive Economic Zone Off Alaska; Groundfish Fisheries of the Bering Sea and Aleutian Islands Management Area. 0648-AW06 (73 FR 43362; July 25, 2008). NMFS issued a final rule that implements Amendment 89 to the FMP for Groundfish of the Bering Sea and Aleutian Islands Management Area to establish Bering Sea habitat conservation measures. Amendment 89 prohibits non-pelagic trawling in certain waters of the Bering Sea subarea to protect bottom habitat from the potential adverse effects of non-pelagic trawling. Amendment 89 also established the Northern Bering Sea Research Area for studying the impacts of non-pelagic trawling on bottom habitat. This rule was necessary to protect portions of the Bering Sea subarea bottom habitat from the potential effects of non-pelagic trawling and to provide the opportunity to further study the effects of non-pelagic trawling on bottom habitat. This action was intended to promote the goals and objectives of the MSA, the FMP, and other applicable laws.

55. Fisheries in the Western Pacific; Precious Corals Fisheries; Black Coral Quota and Gold Coral Moratorium. 0648-AV30 (73 FR 47098; August 13, 2008). This final rule implemented Amendment 7 to the FMP for Precious Coral Fisheries of the Western Pacific Region. The rule designated the Au'au Channel, Hawaii, black coral bed as an “Established Bed” with a harvest quota of 5,000 kg every 2 years that applies to Federal and State of Hawaii waters, and implemented a 5-year moratorium on the harvest of gold coral throughout the U.S. western Pacific. This rule was intended to prevent overfishing and achieve optimum yields of black coral resources, and to prevent overfishing and stimulate research on gold corals.

56. Magnuson-Stevens Fishery Conservation and Management Act Provisions; Fisheries of the Northeastern United States; Monkfish Fishery; Framework Adjustment 6 to the Monkfish FMP. 0648-AW81 (73 FR 52635; September 10, 2008). NMFS approved and implemented new management measures for the monkfish fishery recommended in Framework Adjustment 6 (Framework 6) to the Monkfish FMP, which has been submitted jointly by the New England and Mid-Atlantic Fishery Management Councils. This action eliminated the backstop provision adopted in Framework Adjustment 4 to the FMP, which was implemented in October 2007. This provision would have adjusted, and possibly closed, the directed monkfish fishery in fishing year 2009 if the landings in fishing year 2007 exceeded the target total allowable catch by more than 30 percent. Given that both stocks were rebuilt according to the most recent assessment, the backstop provision was no longer deemed necessary.

57. Pacific Halibut Fisheries; Guided Sport Charter Vessel Fishery for Halibut. 0648-AX21 (73 FR 52795; September 11, 2008). NMFS withdrew regulations that placed limits on charter vessel anglers, including a one-halibut daily bag limit in International Pacific Halibut Commission Area 2C. The U.S. District Court for the District of Columbia issued a Temporary Restraining Order (TRO) on June 10, 2008 (amended on June 13, 2008), and a Preliminary Injunction (PI) on June 20, 2008, enjoining and restraining NMFS from giving any effect to or otherwise taking any action to enforce the one-halibut daily bag limit restriction for charter vessel anglers. The TRO (as amended) and the PI direct that the daily bag limit should revert to the two-fish daily bag limit with one fish no more than 32 inches (81.3 cm) head-on length that was in place prior to the one-fish daily bag limit. This action ensured that regulatory text provided accurate information to the regulated public. The intended effect was to make regulatory requirements consistent with a duly issued court order.

58. Atlantic Highly Migratory Species; Atlantic Tuna Fisheries; Pelagic and Bottom Longline Fisheries; Gear Authorization and Turtle Control Devices. 0648-AV92 (73 FR 54721; September 23, 2008). NMFS authorized green-stick gear for the harvest of Atlantic tunas, including bluefin tuna, and required a sea turtle control device in Atlantic HMS pelagic longline (PLL) and bottom longline fisheries. At that time, NMFS was not authorizing harpoon gear for the harvest of Atlantic tunas in the HMS Charter/Headboat category as originally proposed. The purpose of this final rule was to ensure fishermen harvest Atlantic tunas within quotas, size limits, or other established limitations and to distinguish green-stick fishing gear from current definitions of other authorized gear types. This final rule also addressed use of sea turtle control devices in the PLL and bottom longline fisheries to achieve and maintain low post-release mortality of sea turtles thus maintaining consistency with the 2004 Biological Opinion for the Atlantic PLL fishery and to increase safety at sea for fishermen when handling sea turtles caught or entangled in longline fishing gear. NMFS also revised its list of equipment models that NMFS had approved as meeting the minimum design specifications for the careful release of sea turtles caught in hook and line fisheries.

59. Pacific Halibut Fisheries; Subsistence Fishing. 0648-AU14 (73 FR 54932; September 24, 2008). NMFS issued a final rule to amend the subsistence fishery rules for Pacific halibut in waters in and off Alaska. These regulations were necessary to address subsistence halibut management concerns, particularly in densely populated areas. This action was intended to support the conservation and management provisions of the Northern Pacific Halibut Act of 1982.

60. Endangered Fish and Wildlife; Final Rule To Implement Speed Restrictions to Reduce the Threat of Ship Collisions With North Atlantic Right Whales. 0648-AS36 (73 FR 60173; October 10, 2008). NMFS established regulations to implement speed restrictions of no more than 10 knots applying to all vessels 65 ft. (19.8 m) or greater in overall length in certain locations and at certain times of the year along the east coast of the U.S. Atlantic seaboard. The purpose of the regulations was to reduce the likelihood of deaths and serious injuries to endangered North Atlantic right whales that result from collisions with ships.

61. Endangered and Threatened Species; Critical Habitat for Threatened Elkhorn and Staghorn Corals. 0648-AU92 (73 FR 64264; October 29, 2008). NMFS published this final rule to apply all the prohibitions enumerated in section 9(a)(1) of the ESA to elkhorn (Acropora palmata) and staghorn (A. cervicornis) corals, with limited exceptions for two specified classes of activities that contribute to the conservation of the listed corals. NMFS determined that extending these prohibitions with two exceptions was necessary and advisable to provide for the conservation of the species.

62. General Provisions for Domestic Fisheries; Specifications for Boarding Ladders. RIN 0648-AV78 (73 FR 67805; November 17, 2008). NMFS published regulations to require operators of domestic fishing vessel with a freeboard of four feet or over to provide a U.S. Coast Guard approved pilot ladder as a safe and enforceable means for authorized personnel to board fishing vessels in carrying out their duties under the MSA, the Atlantic Tunas Convention Act, and other applicable fisheries laws and treaties. This action was necessary to provide for the safety of personnel boarding domestic fishing vessels, as current standards have proven to be inadequate. These final regulations established a safer and more enforceable national standard for ladders used by authorized officers for boarding domestic fishing vessels subject to Federal regulation.

63. Fisheries of the Caribbean, Gulf of Mexico, and South Atlantic; Shrimp Fishery of the Gulf of Mexico; Revisions to Allowable Bycatch Reduction Devices. RIN 0648-AV14 (73 FR 68355; November 18, 2008). In accordance with the framework procedures for adjusting management measures of the FMP for the Shrimp Fishery of the Gulf of Mexico, NMFS issued this final rule to decertify the expanded mesh BRD, the “Gulf fisheye” BRD, and the “fisheye” BRD, as was then specified, for use in the Gulf of Mexico shrimp fishery. NMFS also certified a new specification for the fisheye device to be used in the Gulf. In addition, this final rule incorporated a number of minor revisions which remove outdated regulatory text and revise references within regulatory text. The intended effect of this final rule was to improve bycatch reduction in the shrimp fishery and better meet the requirements of national standard 9.

64. Endangered and Threatened Species; Critical Habitat for Threatened Elkhorn and Staghorn Corals. 0648-AV35 (73 FR 72210; November 26, 2008). NMFS issued a final rule designating critical habitat for elkhorn (Acropora palmata) and staghorn (A. cervicornis) corals, which we listed as threatened under the ESA of 1973, as amended, on May 9, 2006. Four specific areas were designated: The Florida area, which comprises approximately 1,329 square miles (3,442 sq. km) of marine habitat; the Puerto Rico area, which comprises approximately 1,383 square miles (3,582 sq. km) of marine habitat; the St. John/St. Thomas area, which comprises approximately 121 square miles (313 sq. km) of marine habitat; and the St. Croix area, which comprises approximately 126 square miles (326 sq. km) of marine habitat. NMFS excluded one military site, comprising approximately 5.5 square miles (14.3 sq. km), because of national security impacts.

65. Fisheries in the Western Pacific; Bottomfish and Seamount Groundfish Fisheries; Management Measures for the Northern Mariana Islands. RIN 0648-AV28 (73 FR 75615; December 12, 2008). This final rule established Federal permitting and reporting requirements for all commercial bottomfish vessels fishing in the U.S. EEZ around the Commonwealth of the Northern Mariana Islands (CNMI). The final rule also closed certain EEZ waters around the CNMI to bottomfish fishing by vessels over 40 ft. (12.2 m) in length. Vessel monitoring system units must be installed on those larger vessels when fishing in EEZ waters around the CNMI, and the operators of those larger vessels were required to submit Federal sales reports in addition to catch reports. This final rule was intended to ensure adequate collection of information about the CNMI commercial bottomfish fishery, provide for sustained community participation, and maintain a consistent supply of locally-caught bottomfish to CNMI markets and seafood consumers. Combined, these measures were intended to prevent the depletion of bottomfish stocks in the CNMI, and to sustain the fisheries that depend on them.

66. Pacific Halibut Fisheries; Bering Sea and Aleutian Islands King and Tanner Crab Fisheries; Groundfish Fisheries of the Exclusive Economic Zone Off Alaska; Individual Fishing Quota Program; Western Alaska Community Development Quota Program; Recordkeeping and Reporting; Permits. RIN 0648-AT91 (73 FR 76136; December 15, 2008). NMFS issued a final rule that implements new recordkeeping and reporting requirements; a new electronic groundfish catch reporting system, the Interagency Electronic Reporting System, and its data entry component, eLandings; the integration of eLandings with existing logbook requirements and future electronic logbooks; a variety of fisheries permits provisions and revisions to regulations governing the Bering Sea and Aleutian Islands Management Area Crab Rationalization Program, including fee calculations; a revision to a Sitka Pinnacles Marine Reserve closure provision; and a revision to a groundfish observer provision regarding at-sea vessel-to-vessel transfers. This action was intended to promote the goals and objectives of the MSA and other applicable law.

67. Taking of Marine Mammals Incidental to Commercial Fishing Operations; Bottlenose Dolphin Take Reduction Plan. RIN 0648-AW68 (73 FR 77531; December 19, 2008). NMFS issued this final rule amending the Bottlenose Dolphin Take Reduction Plan's (BDTRP) implementing regulations by extending, for an additional 3 years, fishing restrictions expiring on May 26, 2009. This action continued, without modification, current nighttime fishing restrictions of medium mesh gillnets operating in the North Carolina portion of the Winter-Mixed Management Unit during the winter. Medium mesh fishing restrictions were extended for an additional 3 years to ensure continued conservation of the Western North Atlantic coastal bottlenose dolphin stock, should a directed spiny dogfish fishery reemerge in North Carolina.

68. Fisheries of the Exclusive Economic Zone Off Alaska; Revised Management Authority for Dark Rockfish in the Bering Sea and Aleutian Islands Management Area and the Gulf of Alaska. RIN 0648-AU20 (73 FR 80307; December 31, 2008). NMFS issued a final rule that implements Amendment 73 to the FMP for Groundfish of the Bering Sea and Aleutian Islands Management Area and Amendment 77 to the FMP for Groundfish of the Gulf of Alaska (collectively, Amendments 73/77). Amendments 73/77 remove dark rockfish (Sebastes ciliatus) from both FMPs. The State of Alaska assumed management of dark rockfish catch by State-permitted vessels in the Bering Sea and Aleutian Islands Management Area and the Gulf of Alaska, in addition to its existing authority in State waters. This action was necessary to allow the State to implement more responsive, regionally based management of dark rockfish than is currently possible under the FMPs. This action was intended to improve conservation and management of dark rockfish and promote the goals and objectives of the MSA, the FMPs, and other applicable laws.

Dated: September 3, 2014.
Emily H. Menashes,
Acting Director, Office of Sustainable Fisheries, National Marine Fisheries Service.

[FR Doc. 2014-21268 Filed 9-5-14; 8:45 am]

BILLING CODE 3510-22-P